DEPARTMENT OF ENERGY

Federal Energy Regulatory Commission

[Docket No. CP00-226-000]

Williston Basin Interstate Pipeline Company; Notice of Request Under Blanket Authorization

May 9, 2000.

Take notice that on April 27, 2000, Williston Basin Interstate Pipeline Company (Williston Basin), 1250 West Century Avenue, Bismarck, North Dakota 58501, filed in Docket No. CP00-226-000 a request pursuant to sections 157.205 and 157.211 of the Commission's Regulations (18 CFR 157.205 and 157.211) under the Natural Gas Act (NGA) for authorization to construct and operate delivery point facilities for service to MI Drilling Fluids, LLC (MI Drilling) an industrial end-user in Big Horn County, Wyoming under blanket certificate issued in Docket Nos. CP82-487-000, et al pursuant to section 7 of the NGA, all as more fully set forth in the application which is on file with the Commission and open to public inspection. This filing may be viewed on the web at http://www.ferc.fed.us/online/htm (call 202-208-2222 for assistance).

Williston Basin requests authorization to construct and operate delivery point facilities to serve MI Drilling Fluids. LLC (MI Drilling). It is stated that Williston Basin will use the facilities to transport gas daily on a firm basis pursuant to the terms of Williston Basin's FTS rate schedule for delivery to MI Drilling. Williston Basin estimates the cost of the facilities at $32,100. Williston Basin states that the proposed facility will have no significant effect on peak day and there is sufficient capacity to render the proposed service without disadvantage to its other existing customers.

Any questions regarding the application may be directed to Keith A. Tiggelaar, Manager of Regulatory Affairs, at Williston Basin Interstate Pipeline Company, P.O. Box 5601, Bismarck, North Dakota 58506-5601.

Any person or the Commission's staff may, within 45 days after issuance of the instant notice by the Commission, file pursuant to Rule 214 of the Commission's Procedural Rules (18 CFR 385.214) a motion to intervene or notice of intervention and pursuant to section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the NGA.

David P. Boergers,
Secretary.

[FR Doc. 00-12081 Filed 5-12-00; 8:45 am]

BILLING CODE 6717-01-M